DEPARTMENT OF DEFENSE

Office of the Secretary

[Docket ID DOD-2012-OS-0047]

Privacy Act of 1974; System of Records

AGENCY: Defense Intelligence Agency, DoD.

ACTION: Notice to alter a system of records.

SUMMARY: The Defense Intelligence Agency proposes to alter a system in its existing inventory of records systems subject to the Privacy Act of 1974 (5 U.S.C. 552a), as amended.

DATES: This proposed action will be effective on May 14, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at Defense Intelligence Agency, DAN 1-C, 600 McDill Blvd., Washington, DC 20340-0001, or by phone at (202) 231-1193.

SUPPLEMENTARY INFORMATION: The Defense Intelligence Agency notices for systems of records subject to the Privacy Act of 1974, 5 U.S.C. 552a, as amended, have been published in the Federal Register and are available from the address in FOR FURTHER INFORMATION CONTACT. The proposed system report, as required by 5 U.S.C. 552a(r) of the Privacy Act of 1974, as amended, was submitted on April 6, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 9, 2012.
Aaron Siegel,
Alternate OSD Federal Register Liaison Officer, Department of Defense.

LDIA 07-0003

Information Technology Support System (September 6, 2007, 72 FR 51215)

Changes:

* * * * *

System name:

Delete entry and replace with “Department of Defense Intelligence Information System (DoDIIS) Customer Relationship Management.”

System location:

Delete entry and replace with “Defense Intelligence Agency, 200 MacDill Boulevard, Washington, DC 20304-0001.”

Categories of individuals covered by the system:

Delete entry and replace with “Civilian, military and contract employees who request access to information under the security cognizance of DoDIIS”.

Categories of records in the system:

Delete entry and replace with “Records include identifying information: Name, Social Security Number (SSN), Employee Identification Number (EIN), work email address, work phone number and network user identification; service request records relating to password issuance, type of security clearance, and name of system to which access has been granted.”

Authority for maintenance of the system:

Delete entry and replace with “Executive Order 12958, Classified National Security Information; Homeland Security Presidential Directive (HSPD-12), Policy for a Common Identification Standard for Federal Employees and Contractors; Director of Central Intelligence Directive (DCID) 6-3, Protecting Sensitive Compartmented Information within Information Systems; Department of Defense (DoD), DoD 5200.2-R, DoD Personnel Security Program; Defense Intelligence Agency (DIA) 8500.003, Systems Access; and E.O. 9397 (SSN), as amended.”

Purpose:

Delete entry and replace with “The system will manage records generated as a result of requests for access to systems under DoDIIS. Information is used to meet regulatory requirements when granting access to information systems and to maintain a repository of personnel who have been granted access.”

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD “Blanket Routine Uses” set forth at the beginning of the Defense Intelligence Agency's compilation of systems records notices apply to this system.

Policies and practices for storing, retrieving, accessing, retaining, and disposing of records in the system:

* * * * *

Retrievability:

Delete entry and replace with “Individual's last name and network user-identification.”

* * * * *

Retention and disposal:

Delete entry and replace with “Temporary records are deleted when the individual is no longer under the security cognizance of DoDIIS. Records are electronically deleted from the database.”

System manager(s) and address:

Delete entry and replace with “Functional Program Manager, Deputy Directorate for Information Management and Chief Information Officer, Defense Intelligence Agency, 200 MacDill Boulevard, Washington, DC 20304-0001.”

Notification procedure:

Delete entry and replace with “Individuals seeking to determine whether information about themselves is contained in this system of records should address written inquiries to the DIA Freedom of Information Office (DAN-1A), Defense Intelligence Agency, 200 MacDill Boulevard, Washington, DC 20340-0001.

Request should contain the individual's full name, current address, and telephone number.”

Record access procedures:

Delete entry and replace with “Individuals seeking access to information about themselves, contained in this system of records, should address written inquiries to the DIA Freedom of Information Office (DAN-1A), 200 MacDill Boulevard, Washington, DC 20340-0001.

Request should contain the individual's full name, current address, and telephone number.”

Contesting record procedures:

Delete entry and replace with “DIA's rules for accessing records, for contesting contents and appealing initial agency determinations are published in DIA Instruction 5400.001 “Defense Intelligence Agency Privacy Program”; or may be obtained from the system manager.”

* * * * *

[FR Doc. 2012-8869 Filed 4-12-12; 8:45 am]

BILLING CODE 5001-06-P